Title 3—

The President

Proclamation 8410 of September 3, 2009

National Days of Prayer And Remembrance, 2009

By the President of the United States of America

A Proclamation

They were daughters and sons, sisters and brothers, mothers and fathers, spouses and partners, family and friends, colleagues and strangers. They hailed from cities and towns across our Nation and world. On September 11, 2001, thousands of innocent women and men were taken from us, and their loss leaves an emptiness in our hearts.

Hundreds perished as planes struck the skyline of New York City, the structure of the Pentagon, and the grass of Pennsylvania. In the immediate aftermath of these tragedies, many victims died as they sought safety. Selflessly placing themselves in danger, first responders, members of the Armed Forces, and private citizens made the ultimate sacrifice working to assist others. During the National Days of Prayer and Remembrance, Americans across the country cherish the memory of all those who passed and honor and pray for their families and friends.

Americans also remember and pray for the safety and success of the members of the United States Armed Forces, who work every day to keep our Nation safe from terrorism and other threats to our security. Military members assisted those in need on September 11, 2001, and serve now in Iraq, Afghanistan, and around the world. They have left the safety of home so that our Nation might be more secure. They have endured great sacrifice so that we might enjoy the blessings of liberty. Our servicemembers represent the best of America, and they deserve our deepest respect and gratitude.

The threat of terrorism has denied too many men, women, and children their right to live in peace and security. As the United States works to defeat terrorists and build a more hopeful future for our children and young people across the world, we seek humility and strength. We reflect upon the lessons drawn from our national tragedy, seek God’s guidance and wisdom, and, never forgetting the lost, commit to working in common cause with our friends and allies to create a safer and brighter world for current and future generations.

NOW, THEREFORE, I, BARACK OBAMA, President of the United States of America, by virtue of the authority vested in me by the Constitution and laws of the United States, do hereby proclaim Friday, September 4, through Sunday, September 6, as National Days of Prayer and Remembrance. I ask that the people of the United States, each in their own way, honor the victims of September 11, 2001, and their families through prayer, memorial services, the ringing of bells, and evening candlelight remembrance vigils. I invite the people of the world to share in this solemn commemoration.

IN WITNESS WHEREOF, I have hereunto set my hand this third day of September, in the year of our Lord two thousand nine, and of the Independence of the United States of America the two hundred and thirty-fourth.

[FR Doc. E9-21852

Filed 9-8-09; 8:45 am]

Billing code 3195-W9-P